DEPARTMENT OF AGRICULTURE

Submission for OMB Review; Comment Request

October 19, 2021.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 24, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: American Rescue Plan Act of 2021 Section 1005 Loan Payment (ARPA).

OMB Control Number: 0560-0300.

Summary of Collection: The Farm Service Agency (FSA) implemented the American Rescue Plan Act (ARPA; Pub. L. 117-2) to provide payments up to 120 percent to socially disadvantaged borrowers who have ARPA-eligible Farm Loan Programs (FLP) in the Direct and Guaranteed Farm Loan programs and Farm Storage Facility Loan Program (FSFL) loans for the loan balances as of January 1, 2021. This program will provide immediate financial relief from the COVID related economic crisis to approximately 24,000 FSA borrowers who are eligible.

Need and Use of the Information: FSA is using the form FSA-2601, Notification of FSA's Decision-ARPA that includes the information to borrowers to accept, discuss with FSA before making a decision, or decline the financial assistance. The borrowers have 60 days to return FSA-2601 to accept the payment calculations and request payment; self-certify racial and/or ethnic eligibility; acknowledge that ARPA is subject to public disclosure; acknowledge probable tax liability; assign payment to FSA for the amount of the ARPA eligible debt as of January 1, 2021. The balance sent to the borrower to allow to schedule a meeting to discuss with FSA before making a decision; or decline ARPA.

Description of Respondents: Farms.

Number of Respondents: 24,000.

Frequency of Responses: Reporting; Other (one-time).

Total Burden Hours: 6,000.

Ruth Brown,
Departmental Information Collection Clearance Officer.

[FR Doc. 2021-23118 Filed 10-22-21; 8:45 am]

BILLING CODE 3410-05-P